ENVIRONMENTAL PROTECTION AGENCY

[FRL-9194-7]

Two Proposed CERCLA Section 122(g) Administrative Agreements for De Minimis Settlements for the Mercury Refining Superfund Site, Towns of Guilderland and Colonie, Albany County, NY

AGENCY: Environmental Protection Agency.

ACTION: Notice; request for public comment.

SUMMARY: In accordance with Section 122(i) of the Comprehensive Environmental Response, Compensation, and Liability Act of 1980, as amended (“CERCLA”), 42 U.S.C. 9622(i), notice is hereby given by the U.S. Environmental Protection Agency (“EPA”), Region II, of two proposed de minimis administrative agreements pursuant to Section 122(g) of CERCLA, 42 U.S.C. 9622(g). One settlement is between EPA and the Metropolitan Transportation Authority-New York City Transit Authority (“MTA-NYCTA”) and Tyson Foods, Inc. (“Tyson”), hereinafter referred to as the “MTA-Tyson Settlement.” The second settlement is between EPA and MG Automation and Controls Corporation (“MG”) and Occidental Chemical Corporation (“OxyChem”), hereinafter referred to as the “MG-OxyChem Settlement.” Both settlements pertain to the Mercury Refining Superfund Site (“Site”) located in the Towns of Guilderland and Colonie, Albany County, New York. The MTA-Tyson Settlement requires that MTA-NYCTA pay $67,844.54, and that Tyson pay $32,684.84. The MG-OxyChem Settlement requires MG to pay $39,946.45 and OxyChem to pay $20,741.84. All payments will be paid to the EPA Hazardous Substance Superfund Mercury Refining Superfund Site Special Account. Each settling party's individual settlement amount is considered to be that party's fair share of cleanup costs incurred and anticipated to be incurred in the future, plus a “premium” that accounts for, among other things, uncertainties associated with the costs of that future work at the Site. Each settlement includes a covenant not to sue pursuant to Sections 106 and 107 of CERCLA, 42 U.S.C. 9606 and 9607, relating to the Site, subject to limited reservations, and protection from contribution actions or claims as provided by Sections 113(f)(2) and 122(g)(5) of CERCLA, 42 U.S.C. 9613(f)(2) and 9622(g)(5). For thirty (30) days following the date of publication of this notice, EPA will receive written comments relating to the settlements. EPA will consider all comments received and may modify or withdraw its consent to one or both of the settlements if comments received disclose facts or considerations that indicate that one or both of the proposed settlements are inappropriate, improper, or inadequate. EPA's response to any comments received will be available for public inspection at EPA Region II, 290 Broadway, New York, New York 10007-1866.

DATES: Comments must be submitted on or before September 29, 2010.

ADDRESSES: The proposed settlement is available for public inspection at EPA Region II offices at 290 Broadway, New York, New York 10007-1866. Comments on the MTA-Tyson settlement should reference the Mercury Refining Superfund Site, Index No. CERCLA-02-2010-2002. Comments on the MG-OxyChem settlement should reference the Mercury Refining Superfund Site, Index No. CERCLA-02-2010-2013. To request a copy of either settlement agreement, please contact Sharon E. Kivowitz at the address identified below. All comments should be submitted to Sharon E. Kivowitz at the address identified below.

FOR FURTHER INFORMATION CONTACT: Sharon E. Kivowitz, Assistant Regional Counsel, New York/Caribbean Superfund Branch, Office of Regional Counsel, U.S. Environmental Protection Agency, 17th Floor, 290 Broadway, New York, New York 10007-1866. Telephone: 212-637-3183. E-mail: kivowitz.sharon@epa.gov.

Dated: August 18, 2010.
Walter Mugdan,
Director, Emergency and Remedial Response Division, EPA, Region 2.

[FR Doc. 2010-21548 Filed 8-27-10; 8:45 am]

BILLING CODE 6560-50-P